DEPARTMENT OF ENERGY

Federal Energy Regulatory Commission

[Docket No. CP05-378-000]

Transcontinental Gas Pipe Line Corporation; Notice of Application for Abandonment

June 15, 2005.

Take notice that on June 8, 2005, Transcontinental Gas Pipe Line Corporation (Transco) tendered for filing an application under section 7 of the Natural Gas Act to abandon the firm transportation service provided to the City of Monroe, Georgia (Monroe) under Transco's Rate Schedule FT pursuant to the Service Agreement dated August 1, 1991.

Transco states that although the firm transportation service is being rendered by it pursuant to Transco's blanket certificate authorization under Part 284 (G) of the Commission's regulations, Transco requires specific section 7(b) abandonment authorization (instead of simply abandoning the service automatically under section 284.221(d) of the regulations) because the subject FT service for Monroe was previously converted from firm sales service under Transco's then existing Rate Schedule PS to firm transportation service under Transo's Rate Schedule FT pursuant to Transco's Stipulation and Agreement in Docket Nos. RP87-7, et al. Transco notes that the settlement provides that pre-granted abandonment shall not apply to such conversions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 pm Eastern Time July 6, 2005.

Magalie R. Salas,
Secretary.

[FR Doc. E5-3249 Filed 6-21-05; 8:45 am]

BILLING CODE 6717-01-P